DEPARTMENT OF TRANSPORTATION

Federal Aviation Administration

14 CFR Parts 61, 63, and 65

[Docket No. FAA-2022-1463]

RIN 2120-AL74

Airman Certification Standards and Practical Test Standards for Airmen; Incorporation by Reference

AGENCY: Federal Aviation Administration (FAA), Department of Transportation (DOT).

ACTION: Extension of comment period.

SUMMARY: This action extends the comment period for the notice of proposed rulemaking Airman Certification Standards and Practical Test Standards for Airmen; Incorporation by Reference, which published in the Federal Register on December 12, 2022.

DATES: The comment period for the notice of proposed rulemaking was opened on December 12, 2022 and was scheduled to close on January 11, 2023. The comment period is extended for an additional 30 days or a total of 60 days from the original publication date in the Federal Register to February 10, 2023.

ADDRESSES: Send comments identified by docket number FAA-2022-1463 using any of the following methods:

• Federal eRulemaking Portal: Go to https://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at www.dot.gov/privacy.

Docket: Background documents or comments received may be read at https://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Daron Malmborg, Airman Testing Standards Branch, AFS-630, Federal Aviation Administration, P.O. Box 25082, Oklahoma City, OK 73125; (405) 954-4151; AFS630comments@faa.gov.

SUPPLEMENTARY INFORMATION: See the “Additional Information” section for information on how to comment on this proposal and how the FAA will handle comments received. The “Additional Information” section also contains related information about the docket, privacy, the handling of proprietary or confidential business information. In addition, there is information on obtaining copies of related rulemaking documents.

Executive Summary

The subject rulemaking proposes several amendments to parts 61, 63, and 65 of Title 14 of the Code of Federal Regulations (14 CFR) by incorporating by reference (IBR) the Airman Certification Standards (ACS) and Practical Test Standards (PTS). The ACSs and PTSs are currently utilized as the practical test testing standard for airman certificates and ratings. The FAA notes that there are no major substantive changes proposed to the testing standards that are already in use or the process by which the practical test is conducted. Rather, the FAA proposed the rulemaking to bring the ACSs and PTSs into the FAA regulations through the proper notice and comment process required by the Administrative Procedure Act (APA),¹ as discussed in section III.A. of the previously published preamble.

¹ 5 U.S.C. 551-559.

Extension of Comment Period

The FAA has determined that extension of the comment period is consistent with the public interest, and that good cause exists for taking this action. Accordingly, the comment period for FAA-2022-1463 is extended for an additional 30 days or a total of 60 days from the original publication date in the Federal Register to February 10, 2023.

Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Confidential Business Information: Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person identified in the FOR FURTHER INFORMATION CONTACT section of this document. Any commentary that the FAA receives which is not specifically designated as CBI will be placed in the public docket for this rulemaking.

B. Electronic Access and Filing

A copy of the notice of proposed rulemaking (NPRM), all comments received, any final rule, and all background material may be viewed online at https://www.regulations.gov using the docket number listed above. A copy of this rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or notice number of this rulemaking. All documents the FAA considered in developing this proposed rule, including economic analyses and technical reports, may be accessed in the electronic docket for this rulemaking.

Authority

The FAA's authority to issue rules regarding aviation safety is found in Title 49 of the United States Code. Subtitle I, Section 106, describes the authority of the FAA Administrator to promulgate regulations and rules. Subtitle VII, Aviation Programs, describes in more detail the scope of the agency's authority.

The proposed rulemaking was promulgated under the authority granted to the Administrator in 49 U.S.C. Subtitle VII, Part A, Subpart iii, Chapter 401, Section 40113 (prescribing general authority of the Administrator of the FAA with respect to aviation safety duties and powers to prescribe regulations) and Subpart III, Chapter 447, Sections 44701 (general authority of the Administrator to promote safe flight of civil aircraft in air commerce by prescribing regulations and setting minimum standards for other practices, methods, and procedures necessary for safety in air commerce and national security), 44702 (general authority of the Administrator to issue airman certificates), and 44703 (general authority of the Administrator to prescribe regulations for the issuance of airman certificates when the Administrator finds, after investigation, that an individual is qualified for and physically able to perform the duties related to the position authorized by the certificate). The subject rulemaking proposal was previously issued within the scope of that authority.

This extension to the comment period for the aforementioned rulemaking is issued under authority provided by 49 U.S.C. 106(f), 44701(a), and 44703 in Washington, DC, on December 23, 2023.

Brandon Roberts,
Executive Director, Office of Rulemaking.

[FR Doc. 2022-28378 Filed 12-30-22; 8:45 am]

BILLING CODE P